FEDERAL COMMUNICATIONS COMMISSION

47 CFR Part 24

[GEN Docket No. 90-314; ET Docket No. 92-100; PP Docket No. 93-253; DA 00-1421]

Narrowband Personal Communications Services; Competitive Bidding

AGENCY: Federal Communications Commission.

ACTION: Notice of proposed rule making; extension of comment period.

SUMMARY: In this document, the Commission grants in part a motion for extension of time to file comments and reply comments in the narrowband PCS proceeding. The motion was filed by the Personal Communications Industry Association (PCIA). A brief extension of time is warranted in order to give PCIA and its members adequate time to develop a consensus position and thus facilitate the compilation of a more complete record on the issues raised. The new deadlines for filing comments and reply comments will be July 19, 2000, and August 3, 2000, respectively.

DATES: Comments are due on or before July 19, 2000, and reply comments are due on or before August 3, 2000.

ADDRESSES: Parties who choose to file comments by paper should send comments to the Commission's Secretary, Magalie Roman Salas, Office of the Secretary, Federal Communications Commission, 445 12th Street, SW, Room TW-A325, Washington, DC 20554. See the “Supplementary Information” section for additional information about paper and electronic filing.

FOR FURTHER INFORMATION CONTACT: Alice Elder, Auctions and Industry Analysis Division, Wireless Telecommunications Bureau, at (202) 418-0660.

SUPPLEMENTARY INFORMATION: This is a summary of the Order in GEN Docket No. 90-314, ET Docket No. 92-100, and PP Docket No. 93-253, DA 00-1421, adopted and released on June 26, 2000. The complete text of the Order is available for inspection and copying during normal business hours in the FCC Reference Information Center, 445 12th Street, SW, Room CY-A257, Washington, DC 20554, and also may be purchased from the Commission's copy contractor, International Transcription Services, Inc., 1231 20th Street, NW, Washington, DC 20036, (202) 857-3800. The Order is also available via the Internet at

http://www.fcc.gov/Bureaus/Wireless/Orders/2000/index.html.

1. On May 18, 2000, the Commission released a Second Report and Order and Second Further Notice of Proposed Rule Making, GEN Docket No. 90-314, ET Docket No. 92-100, PP Docket No. 93-253, FCC 00-159, 65 FR 35875 (June 6, 2000). Comments on the Second Further Notice of Proposed Rule Making were due on or before July 5, 2000, and reply comments were due on or before July 20, 2000.

2. On June 19, 2000, the Personal Communications Industry Association (PCIA) filed a “Motion of the Personal Communications Industry Association for Extension of Time,” requesting that the Commission extend these deadlines for filing comments and reply comments by thirty days. Thus, PCIA requested that the deadlines be extended to August 4, 2000, and August 21, 2000, respectively. According to PCIA, additional time is needed to permit PCIA and its members to explore fully channelization options and other issues raised in the Second Further Notice of Proposed Rule Making and to develop a consensus position. PCIA urges that a brief delay of the rulemaking process would be more than compensated for by the advantage of a more complete record and the development of a consensus position on behalf of a significant portion of the messaging industry.

3. The Commission does not routinely grant extensions of time. Upon review, however, the Division agrees that a brief extension of time is warranted in order to give PCIA and its members adequate time to develop a consensus position and thus facilitate the compilation of a more complete record in this proceeding. However, the Division is not persuaded that a thirty-day extension is necessary and is concerned that such an extension could delay the Commission's consideration of the issues raised in the Second Further Notice of Proposed Rule Making. The current deadlines for filing comments and reply comments in this proceeding will therefore be extended by two weeks.

4. Accordingly, it is ordered that the Motion of the Personal Communications Industry Association for Extension of Time filed on June 19, 2000, is granted in part. Interested parties may file comments on or before July 19, 2000, and reply comments on or before August 3, 2000.

5. Filing procedures. Pursuant to 47 CFR 1.415, 1.419, interested parties may file comments in accordance with the schedule listed in the “Dates” section. Comments may be filed using the Commission's Electronic Comment Filing System (ECFS) or by filing paper copies. See Electronic Filing of Documents in Rulemaking Proceedings, 63 FR 24121 (May 1, 1998).

6. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit electronic comments by Internet e-mail. To get filing instructions for e-mail comments, commenters should send an e-mail to ecfs@fcc.gov, and should include the following words in the body of the message, “get form <your e-mail address>.” A sample form and directions will be sent in reply. Or you may obtain a copy of the ASCII Electronic Transmittal Form (Form-ET) at

http://www.fcc.gov/efile/email.html.

7. Parties who choose to file by paper must file an original and four copies of each filing. If interested parties want each Commissioner to receive a personal copy of their comments, an original plus nine copies must be filed. If more than one docket or rulemaking number appear in the caption of this proceeding, commenters must submit two additional copies for each additional docket or rulemaking number. All filings must be sent to the Commission's Secretary, Magalie Roman Salas, Office of the Secretary, Federal Communications Commission, 445 12th Street, SW, Room TW-A325, Washington, DC 20554. One copy should also be sent to the Commission's copy contractor, International Transcription Service, Inc., 1231 20th Street, NW, Washington, DC 20036. In addition, a courtesy copy should be delivered to Alice Elder, Auctions and Industry Analysis Division, Wireless Telecommunications Bureau, Federal Communications Commission, 445 12th Street, SW, Washington, DC 20554.

8. Parties who choose to file by paper should also submit their comments on diskette. These diskettes should be submitted to Alice Elder, Auctions and Industry Analysis Division, Wireless Telecommunications Bureau, Federal Communications Commission, 445 12th Street, SW, Washington, DC 20554. Such a submission should be on a 3.5 inch diskette formatted in an IBM compatible format using Word or compatible software. The diskette should be accompanied by a cover letter and should be submitted in “read only” mode. The diskette should be clearly labeled with the commenter's name, proceeding (including GEN Docket No. 90-314, ET Docket No. 92-100, PP Docket No. 93-253), type of pleading (comment or reply comment), date of submission, and the name of the electronic file on the diskette. The label should also include the following phrase: “Disk Copy—Not an Original.” Each diskette should contain only one party's pleadings, preferably in a single electronic file. In addition, commenters must send diskette copies to the Commission's copy contractor, International Transcription Service, Inc., 1231 20th Street, NW, Washington, DC 20036.

9. Comments and reply comments will be available for public inspection during regular business hours in the FCC Reference Information Center, 445 12th Street, SW, Washington, DC 20554.

10. This action is taken pursuant to the authority provided in 47 CFR 1.46 and under delegated authority pursuant to 47 CFR 0.131, 0.331.

Federal Communications Commission.
Margaret Wiener,
Deputy Chief, Auctions and Industry Analysis Division, Wireless Telecommunications Bureau.

[FR Doc. 00-16814 Filed 6-30-00; 8:45 am]

BILLING CODE 6712-01-P